DEPARTMENT OF THE INTERIOR

Bureau of Land Management

[OR-129-5882-AC-CD00; GP2-0133]

Notice of Meeting

AGENCY: Bureau of Land Management, Interior.

ACTION: Notice of meeting.

SUMMARY: The Coos Bay District Resource Advisory Committee will hold a meeting in Reedsport, Oregon. Agenda topics include review of last meeting minutes; presentations on proposed fiscal year 2003 Title II projects, and decide which projects to recommend for implementation.

DATES: August 1, 2002. The meeting will begin at 9 a.m. A public comment period will be held at 1 p.m. The meeting is expected to adjourn by 4 p.m. If the Committee cannot complete the agenda by 4 p.m., they will reconvene on August 8, 2002, at the BLM office in North Bend, Oregon. If held, that meeting will begin at 9 a.m.

ADDRESSES: The August 1 meeting will be held at the Reedsport City Council chambers at 451 Winchester Ave. in Reedsport, Oregon. If the August 8th meeting is held, it will meet in the U.S. Bureau of Land Management office at 1300 Airport Lane, North Bend, Oregon.

FOR FURTHER INFORMATION CONTACT: Alan Hoffmeister, Coos Bay District Office, (541) 751-4249.

Dated: March 15, 2002.
Sue E. Richardson,
Coos Bay District Manager.

[FR Doc. 02-11088 Filed 5-3-02; 8:45 am]

BILLING CODE 4310-33-P